ENVIRONMENTAL PROTECTION AGENCY

[ER-FRL-6252-9]

Environmental Impact Statements; Notice of Availability

Responsible Agency: Office of Federal Activities, General Information (202) 564-7167 or www.epa.gov/oeca/ofa.

Weekly Receipt of Environmental Impact Statements

Filed March 27, 2000 Through March 31, 2000

Pursuant to 40 CFR 1506.9

EIS No. 000087, Draft EIS, AFS, ID, Idaho Panhandle National Forests, Small Sales, Harvesting Dead and Damaged Timber, Coeur d'Alene River Range District, Kootenai and Shoshone Counties, ID, Due: May 15, 2000, Contact: Bob Rehnborg (208) 664-2318.

EIS No. 000088, Draft EIS, AFS, PA, Duck and Sheriff Project Area (DSPA), Timber Management, Road Construction and Reconstruction, Trail Maintenance, Wildlife Habitat Improvement, and Recreation Management, Allegheny National Forest, Bradford Ranger District, Cherry Grove Township of Warren County, and Howe Township of Forest County, PA, Due: May 15, 2000, Contact: John Schultz (814) 362-4613.

EIS No. 000089, Draft EIS, AFS, ID, Warm Springs Ridge Vegetation Management Project, Improve Forest Conditions, Boise National Forest, Cascade Resource Area, Boise County, ID, Due: May 15, 2000, Contact: Kathy Ramirez (208) 392-6681.

EIS No. 000090, Final EIS, FAA, MA, Provincetown Municipal Airport Safety and Operational Enhancement Project, Improvements (1) Firefighter Equipment Garage; (2) General Aviation Parking Apron Expansion; (3) Runaway Safety Areas, and (4) a Runaway Extension, COE Section 404 Permit, Cape Cod National Seashore, Barnstable County, MA, Due: May 01, 2000, Contact: Frank Smigelski (781) 238-7613.

EIS No. 000091, Draft Supplement, AFS, WA, ID, OR, MT, Interior Columbia Basin Ecosystem Management Projects, Updated and New Information on three Management Alternatives, Implementation, WA, OR, ID and MT, Due: June 30, 2000, Contact: Cathy Humphrey (208) 334-1770.

EIS No. 000092, Final EIS, FTA, CA, Vasona Corridor Light Rail Transit Project, Extension of existing Light Rail Transit (LRT), in portion of the Cities of San Jose, Campbell and Los Gatos, Santa Clara County, CA, Due: May 01, 2000, Contact: Jerome Wiggins (415) 744-3115.

EIS No. 000093, Draft EIS, AFS, ID, JJ (Jerry Johnson) Ecosystem Restoration Project, Implementation, Clearwater National Forest, Lochsa Ranger District (Powell), Idaho County, ID, Due: May 15, 2000, Contact: Ken Hotchkiss (208) 942-3113.

EIS No. 000094, Draft Supplement, COE, CA, Port of Los Angeles Channel Deepening Project, To Improve Navigation and Disposal of Dredge Material for the Inner Harbor Channels, Los Angeles County, CA, Due: May 22, 2000, Contact: Larry Smith (213) 452-3846.

Dated: April 4, 2000.
Joseph C. Montgomery,
Director, Office of Federal Activities.

[FR Doc. 00-8670 Filed 4-6-00; 8:45 am]

BILLING CODE 6560-50-P